DEPARTMENT OF THE TREASURY

Alcohol and Tobacco Tax and Trade Bureau

27 CFR Parts 19 and 40

[Re: T.D. TTB-44]

RIN 1513-AA80

Administrative Changes to Alcohol, Tobacco and Firearms Regulations Due to the Homeland Security Act of 2002; Correction

AGENCY: Alcohol and Tobacco Tax and Trade Bureau (TTB), Treasury.

ACTION: Final rule; correction.

SUMMARY: On April 4, 2006, TTB published a final rule in the Federal Register making administrative changes to its regulations due to the Homeland Security Act of 2002, which divided the former Bureau of Alcohol, Tobacco and Firearms, Department of the Treasury, into two separate agencies, the Bureau of Alcohol, Tobacco, Firearms and Explosives in the Department of Justice, and the Alcohol and Tobacco Tax and Trade Bureau in the Department of the Treasury. That final rule contained two incorrect amendatory instructions; this document corrects those errors.

DATES: Effective Date: March 31, 2005.

FOR FURTHER INFORMATION CONTACT: Michael Hoover, Regulations and Rulings Division, Alcohol and Tobacco Tax and Trade Bureau, telephone 202-927-8076.

SUPPLEMENTARY INFORMATION: Effective January 24, 2003, section 1111 of the Homeland Security Act of 2002 divided the former Bureau of Alcohol, Tobacco and Firearms (ATF), Department of the Treasury, into two separate agencies, the Bureau of Alcohol, Tobacco, Firearms and Explosives in the Department of Justice, and the Alcohol and Tobacco Tax and Trade Bureau in the Department of the Treasury. On January 24, 2003, the two Departments published a joint final rule in the Federal Register (68 FR 3744) that divided the ATF regulations contained in title 27, Code of Federal Regulations, between the two new agencies. That final rule placed the regulations administered by the Bureau of Alcohol, Tobacco, Firearms and Explosives in a newly created 27 CFR chapter II, while the regulations administrated by the Alcohol and Tobacco Tax and Trade Bureau (TTB) remained in 27 CFR chapter I.

On April 4, 2006, TTB published a final rule in the Federal Register making administrative changes to the majority of its regulations in 27 CFR chapter I, as a consequence of the changes made by section 1111 of the Homeland Security Act of 2002. With the exception of 27 CFR parts 28, 31, and 41, for which administrative changes were previously made, the final rule amended the remaining parts of 27 CFR chapter I that required nomenclature, organizational, and other administrative changes to conform them to the current name and organizational structure of TTB. For example, the final rule replaced references to ATF and its officers with appropriate TTB references. The final rule made no substantive change to the regulations in question.

After the publication of the final rule, two amendatory instructions were found to contain inadvertent errors. First, amendatory instruction 67a, regarding 27 CFR 19.11, referred to “Area Supervisor” and “Regional Director” when it should have referred to, respectively, “Area supervisor” and “Region director (compliance).” Second, amendatory instruction 131a, regarding section 40.11, referred to “Regions” and “Regional director” when it should have referred to “Region” and Regional Director (compliance),” respectively.

Therefore, in the Federal Register of April 4, 2006, the following corrections are made:

(1) On page 16928, in the second column, paragraph “a” of amendatory instruction 67 is corrected to read as follows:

a. Remove the definitions of “Area supervisor”, “ATF bond”, “ATF officer”, “Director”, “Region”, and “Region director (compliance)”.

(2) On page 16948, in the first column, paragraph “a” of amendatory instruction 131 is corrected to read as follows:

a. Remove the definitions of “Appropriate ATF officer”, “Associate Director (Compliance Operations)”, “ATF”, “ATF officer”, “Director”, “Region”, and “Regional Director (compliance)”.

Dated: April 25, 2006.
Francis W. Foote,
Director, Regulations and Rulings Division.

[FR Doc. 06-4073 Filed 5-1-06; 8:45 am]

BILLING CODE 4810-31-P